DEPARTMENT OF ENERGY

Federal Energy Regulatory Commisison

18 CFR Part 35

[Docket Nos RM01-12-000; RM02-1-000; RM02-12-000]

Remedying Undue Discrimination Through Open Access Transmission Service and Standard Market Design; Standardization of Generator Interconnection and Procedures; Standardization of Small Generator Interconnection Agreements and Procedures

December 3, 2002.

AGENCY: Federal Energy Regulatory Commission, Energy.

ACTION: Notice of technical conference.

SUMMARY: To advance the work related to the referenced proceedings and the transmission pricing issue, on January 21, 2003, Commission staff will hold a technical conference on queuing of interconnection requests. The conference will discuss specific issues related to interconnection queuing practices and procedures. Further details about the conference, including details about how to request participation in the conference as a panelist, will be provided in supplemental notices.

DATES: Conference will be held on: January 21, 2003.

ADDRESSES: Send requests to speak to: Office of the Secretary, Federal Energy Regulatory Commission, 888 First Street, NE., Washington, DC 20426.

FOR FURTHER INFORMATION CONTACT: Norma McOmber, Office of Markets, Tariffs and Rates—Division of Policy, Analysis and Rulemakings, Federal Energy Regulatory Commission, 888 First Street, NE., Washington, DC 20426, (202) 502-8022, Norma.McOmber@ferc.gov.

SUPPLEMENTARY INFORMATION:

Electricity Market Design and Structure

[Docket No. RM01-12-000]

Standardization of Generator Interconnection Agreements and Procedures

[Docket No. RM02-01-000]

Standardization of Small Generator Interconnection Agreements and Procedures

[Docket No. RM02-12-000]

Notice of Technical Conference

To advance work related to the referenced proceedings and the transmission pricing issue, Commission staff will hold a technical conference on queuing of interconnection requests.

This technical conference will be held on January 21, 2003, from approximately 9:30 a.m. to 5 p.m. at the offices of the Federal Energy Regulatory Commission, 888 First Street, NE., Washington, DC. The conference is open to the public, and registration is not required. Members of the Commission may attend and participate in the discussions.

The conference will discuss specific issues related to interconnection queuing practices and procedures, such as: whether queue position should be treated as a property right; whether the Commission should introduce due diligence requirements to prevent cancelled or delayed plants from delaying other units in the queue; how to manage the queue to best serve regional infrastructure planning, grid management, and infrastructure development needs while improving certainty for infrastructure developers; whether the Commission should standardize queue management practices across regions and RTOs or establish a set of national core principles; the most effective method for analyzing impacts of uncertain combinations of loads and generators on the grid; a critical look at current ISO/RTO interconnection queue management practices; whether small (< 20MW) generator impacts on the grid warrant different analysis and queuing treatment for small generators; and interconnection queue experiences.

Further details about the conference, including information regarding how to request participation in the conference as a panelist, will be provided in supplemental notices. The staff contact person for this conference is Norma McOmber (202-502-8022 or e-mail Norma.McOmber@FERC.GOV).

Transcripts of the conference will be immediately available from Ace Reporting Company (202-347-3700 or 1-800-336-6646), for a fee. They will be available for the public on the Commission's FERRIS system two weeks after the conference. Additionally, Capitol Connection offers the opportunity for remote listening and viewing of the conference. It is available for a fee, live over the Internet, via C-Band Satellite. Persons interested in receiving the broadcast, or who need information on making arrangements, should contact David Reininger or Julia Morelli at the Capitol Connection (703-993-3100) as soon as possible or visit the Capitol Connection website at http://www.capitolconnection.gmu.edu and click on “FERC.”

Linwood A. Watson, Jr.,
Deputy Secretary.

[FR Doc. 02-31580 Filed 12-13-02; 8:45 am]

BILLING CODE 6717-01-P